DEPARTMENT OF TRANSPORTATION

Federal Aviation Administration

14 CFR Part 71

[Docket FAA No. FAA-2011-0439; Airspace Docket No. 11-ANM-10]

Amendment of Class D and Class E Airspace and Establishment of Class E Airspace; Casper, WY

AGENCY: Federal Aviation Administration (FAA), DOT.

ACTION: Final rule; correction.

SUMMARY: This action corrects errors in the legal description of a final rule published in the Federal Register of August 25, 2011 that amends Class D and Class E airspace, and establishes Class E en route domestic airspace at Casper, WY.

DATES: Effective Date: 0901 UTC, October 20, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

Federal Register Docket No. FAA-2011-0439, Airspace Docket No. 11-ANM-10, published on August 25, 2011 (76 FR 53048), amends Class D airspace, Class E surface airspace, Class E designated as an extension, and Class E airspace extending upward from 700 feet above the surface; and establishes Class E en route domestic airspace at Natrona County International Airport, Casper, WY. An error was made referencing the Victor airway in the regulatory text for Class E airspace extending upward from 700 feet above the surface. Also, in the Class E en route domestic airspace area, the portion referencing excluding existing controlled airspace 7,100 feet MSL and above is replaced with the correct wording. Class D and E airspace designations are published in paragraph 6005 and 6006, respectively, of FAA Order 7400.9V dated August 9, 2011, and effective September 15, 2011, which is incorporated by reference in 14 CFR Part 71.1. The Class E airspace designations listed in this document will be published subsequently in that Order.

Correction to Final Rule

Accordingly, pursuant to the authority delegated to me, the Class E airspace descriptions as published in the Federal Register of August 25, 2011 (76 FR 53048) (FR Doc. 2011-21663) for Natrona County International Airport, Casper, WY, is corrected under the airspace designations as follows:

ANM WY E5 Casper WY [Corrected]

On page 53049, column 2, line 49 of the regulatory text, remove “V-19”, and insert “V-611”.

ANM WY E6 Casper, WY [Corrected]

On page 53049, column 2, line 61 of the regulatory text, remove “excluding existing controlled airspace 7,100 feet MSL and above,” and insert “excluding existing lateral limits of controlled airspace 7,500 feet MSL and above”.

Issued in Seattle, Washington, on October 6, 2011.
John Warner,
Manager, Operations Support Group, Western Service Center.

[FR Doc. 2011-26732 Filed 10-17-11; 8:45 am]

BILLING CODE 4910-13-P